DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Application Form for Single Lot or Structure Amendments to National Flood Insurance Program Maps.

OMB Number: 1660-0037.

Abstract: Requesters complete and Licensed Land Surveyors or Professional Engineers certify FEMA Form 81-92 or 81-92A to request that FEMA remove a single structure or a legally recorded parcel of land or portions thereof from a designated SFHA via a Letter of Map Amendment (LOMA). A SFHA is an area that would be inundated by a flood event that has a one-percent-annual-chance of being equaled or exceeded in any given year (base flood). FEMA uses the information provided in FEMA Form 81-92 or 81-92A to make a LOMA determination. A LOMA is a letter from FEMA stating that an existing structure or parcel of land that has not been elevated by fill would not be inundated by the base flood. Fill is defined as a material placed to raise the ground to or above the Base Flood Elevation (BFE).

Affected Public: Individuals or households (property owners or lessees); business or other for-profit (Licensed Land Surveyors or Professional Engineers).

Number of Respondents: 26,400.

Estimated Time per Respondent: 2.4 hours.

Estimated Total Annual Burden Hours: 31,680.

Frequency of Response: Once at time of request.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before September 7, 2005.

FOR FURTHER INFORMATION CONTACT: Requests for additional information or copies of the information collection should be made to Section Chief, Records Management, FEMA at 500 C Street, SW., Room 316, Washington, DC 20472, facsimile number (202) 646-3347, or e-mail address FEMA-Information-Collections@dhs.gov.

Dated: July 28, 2005.
George S. Trotter,
Acting Branch Chief, Information Resources Management Branch, Information Technology Services Division.

[FR Doc. 05-15627 Filed 8-5-05; 8:45 am]

BILLING CODE 9110-12-U